DEPARTMENT OF ENERGY

Federal Energy Regulatory Commission

Combined Notice of Filings #2

Take notice that the Commission received the following electric rate filings:

Docket Numbers: ER10-2474-008.

Applicants: Sierra Pacific Power Company.

Description: Market-Based Rate Tariff, Volume No. 7 Amendment to be effective 2/3/2014.

Filed Date: 6/19/14.

Accession Number: 20140619-5064.

Comments Due: 5 p.m. ET 7/10/14.

Docket Numbers: ER10-2475-008.

Applicants: Nevada Power Company.

Description: Market-Based Rate Tariff, Volume No. 11 Amendment to be effective 2/3/2014.

Filed Date: 6/19/14.

Accession Number: 20140619-5065.

Comments Due: 5 p.m. ET 7/10/14.

Docket Numbers: ER14-275-001.

Applicants: DTE Electric Company.

Description: Clinton Compliance Filing to be effective 1/1/2014.

Filed Date: 6/19/14.

Accession Number: 20140619-5062.

Comments Due: 5 p.m. ET 7/10/14.

Docket Numbers: ER14-2209-001.

Applicants: Duke Energy Progress, Inc.

Description: 2nd Amended filing to RS 193 Cargill-DEP to be effective 6/14/2014.

Filed Date: 6/18/14.

Accession Number: 20140618-5111.

Comments Due: 5 p.m. ET 7/9/14.

Docket Numbers: ER14-2222-000.

Applicants: Arizona Public Service Company.

Description: Rate Schedule No. 273—Hassayampa—North Gila 500kV. Particpation Agreement to be effective 8/19/2014.

Filed Date: 6/19/14.

Accession Number: 20140619-5067.

Comments Due: 5 p.m. ET 7/10/14.

Docket Numbers: ER14-2223-000.

Applicants: Sabine Cogen, LP.

Description: Sabine Category Change Amendment Filing to be effective 6/20/2014.

Filed Date: 6/19/14.

Accession Number: 20140619-5086.

Comments Due: 5 p.m. ET 7/10/14.

Docket Numbers: ER14-2224-000.

Applicants: CenterPoint Energy Houston Electric, LLC.

Description: TFO Tariff Interim Rate Revision to Conform with PUCT-Approved ERCOT Rate to be effective 5/12/2014.

Filed Date: 6/19/14.

Accession Number: 20140619-5098.

Comments Due: 5 p.m. ET 7/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2014.
Nathaniel J. Davis, Sr.,
Deputy Secretary.

[FR Doc. 2014-14982 Filed 6-25-14; 8:45 am]

BILLING CODE 6717-01-P